INTERNATIONAL TRADE COMMISSION

[USITC SE-00-033]

Sunshine Act Meeting; Notice

AGENCY HOLDING THE MEETING: United States International Trade Commission.

TIME AND DATE: July 14, 2000 at 10 a.m.

PLACE: Room 101, 500 E Street S.W., Washington, DC 20436, Telephone: (202) 205-2000.

STATUS: Open to the public

MATTERS TO BE CONSIDERED:

1. Agenda for future meeting: none

2. Minutes

3. Ratification List

4. Inv. No. 731-TA-527 (Review)(Extruded Rubber Thread from Malaysia)—briefing and vote. (The Commission is currently scheduled to transmit its determination to the Secretary of Commerce on July 27, 2000.)

5. Inv. No. 731-TA-669 (Review)(Cased Pencils from China)—briefing and vote. (The Commission is currently scheduled to transmit its determination to the Secretary of Commerce on July 24, 2000.)

6. Outstanding action jackets: (1.) Document No. (E)GC-00-004: Administrative matters.

In accordance with Commission policy, subject matter listed above, not disposed of at the scheduled meeting, may be carried over to the agenda of the following meeting.

Issued: July 6, 2000.
By order of the Commission.
Donna R. Koehnke,
Secretary.

[FR Doc. 00-17775 Filed 7-10-00; 2:18 pm]

BILLING CODE 7020-02-P